DEPARTMENT OF LABOR

Employment and Training Administration

[NAFTA—05977]

Progress Lighting, Philadelphia, PA; Notice of Termination of Investigation

Pursuant to Title V of the North American Free Trade Agreement Implementation Act (Pub. L. 103-182) concerning transitional adjustment assistance, hereinafter called (NAFTA-TAA), and in accordance with section 250(a), subchapter D, chapter 2, Title II, of the Trade Act of 1974, as amended (19 U.S.C. 2273), an investigation was initiated on March 12, 2002, in response to a petition filed on behalf of workers at Progress Lighting, Philadelphia, Pennsylvania.

An active certification covering the petitioning group of workers is already in effect (NAFTA-04208A, as amended). Consequently, further investigation in this case would serve no purpose, and the investigation has been terminated.

Signed at Washington, DC, this 25th day of July, 2002.
Edward A. Tomchick,
Director, Division of Trade Adjustment Assistance.

[FR Doc. 02-20618 Filed 8-13-02; 8:45 am]

BILLING CODE 4510-30-P